DEPARTMENT OF VETERANS AFFAIRS

[OMB Control No. 2900-0205]

Agency Information Collection Activity: Application for Health Professions Trainees

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 5, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0205” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Application for Health Professions Trainees, VA Form 10-2850D

OMB Control Number: 2900-0205.

Type of Review: Extension of an approved collection.

Abstract: VA Form 10-2850D, Application for Health Professions Trainees, is part of a previously approved collection of forms under OMB control number 2900-0205. VA Form 10-2850D is designed specifically to elicit appropriate information about qualifications for each trainee participating in accredited educational programs with the Department of Veterans Affairs (VA). The 10-2850D form is used by all health professions trainees, including physician and dentist residents.

The collection of this information is authorized by 38 U.S.C. 7403, (Veterans' Benefits), which provides that appointments of Title 38 employees will be made only after qualifications have been satisfactorily verified in accordance with regulations prescribed by the Secretary. Occupations listed in 38 U.S.C. 7401(1) and 7401(3) (Appointments in Veterans Health Administration) are appointed at a grade and step rate, or an assignment, based on careful evaluation of their education and experience.

The Veterans Health Administration (VHA) conducts education and training programs through partnerships with affiliated academic institutions and through VHA's own sponsored programs. 38 U.S.C 7302 (Functions of Veterans Health Administration: health-care personnel education and training programs) mandates that VHA assist in the training of health professionals for its own needs and for those of the nation.

The VA Form 10-2850D application will collect information from health professions trainees prior to VA appointment. All health professions trainees must provide information concerning their background, training, education, degrees, licensure, registrations, and other vital information to ensure appropriate qualifications for VA assignment.

Affected Public: Individuals and households.

Estimated Annual Burden: 60,500 hours.

Estimated Average Burden per Respondent: 30 minutes.

Frequency of Response: Annually.

Estimated Number of Respondents: 121,000.

By direction of the Secretary.
Danny S. Green,
Interim VA Clearance Officer, Office of Quality, Performance and Risk (OQPR), Department of Veterans Affairs.

[FR Doc. 2019-09132 Filed 5-3-19; 8:45 am]

BILLING CODE 8320-01-P